SMALL BUSINESS ADMINISTRATION

[Declaration of Disaster #3272]

State of Wisconsin; Amendment #5

In accordance with a notice from the Federal Emergency Management Agency, dated August 21, 2000, the above-numbered Declaration is hereby amended to include Dodge and Lafayette Counties in the State of Wisconsin as a disaster area due to damages caused by severe storms, tornadoes, and flooding beginning on May 26, 2000 and continuing through July 19, 2000.

In addition, applications for economic injury loans from small businesses located in the contiguous counties of Fond du Lac in Wisconsin and Stephenson in Illinois may be filed until the specified date at the previously designated location. Any counties contiguous to the above-named primary counties and not listed herein have been previously declared.

All other information remains the same, i.e., the deadline for filing applications for physical damage is September 9, 2000 and for economic injury the deadline is April 11, 2001.

(Catalog of Federal Domestic Assistance Program Nos. 59002 and 59008.)

Dated: August 23, 2000.
Herbert L. Mitchell,
Acting Associate Administrator for Disaster Assistance.

[FR Doc. 00-22236 Filed 8-30-00; 8:45 am]

BILLING CODE 8025-01-P